DEPARTMENT OF JUSTICE

Notice of Lodging of Consent Decree Under the Clean Air Act

Notice is hereby given that on August 20, 2009, a proposed Consent Decree in United States and Louisville Metro Air Pollution Control District v. D.D. Williamson & Company, Inc. Civil Action No. 3:09 cv 633 was lodged with the United States District Court for the Western District of Kentucky (Louisville Division).

In this action both the United States and Louisville Metro Air Pollution Control District (“District”) sought civil penalties and injunctive relief from D.D. Williamson & Company, Inc. (“D.D. Williamson”) for its violations of the Clean Air Act (the “Act”) and its implementing regulations. The consent decree obligates D.D. Williamson to pay $600,000 in civil penalties which will be divided equaling between the United States and the District. Additionally, D.D. Williamson is obligated pursuant to the consent decree to: (1) Hire an independent engineering consultant to conduct a full hazard operability study of its manufacturing operations; (2) implement the study's recommendations; and (3) train its managers in process-hazard assessment techniques.

The Department of Justice will receive for a period of thirty (30) days from the date of this publication comments relating to this proposed settlement. Comments should be addressed to the Assistant Attorney General, Environment and Natural Resources Division, and either e-mailed to pubcomment-ees.enrd@usdoj.gov or mailed to P.O. Box 7611, U.S. Department of Justice, Washington, DC 20044-7611, and should refer to United States et al. v. D.D. Williamson & Company, Inc. Civil Action No. 3:09 cv 633, D.J. Ref. 90-5-2-1-08538.

The consent decree may be examined at the United States Attorney's Office, Western District of Kentucky, 510 W. Broadway, Louisville, KY 40202, ATTN: Jay Gilbert, and at U.S. EPA Region 4, at 61 Forsyth Street, Atlanta, GA 30303, ATTN: Ellen Rouch. During the public comment period, the Consent Decree may also be examined on the following Department of Justice Web site: http://www.usdoj.gov/enrd/Consent_Decrees.html. A copy of the consent decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy, please enclose a check in the amount of $9.25 payable to the U.S. Treasury or, if by e-mail or fax, forward a check in that amount to the Consent Decree Library at the stated address.

Maureen M. Katz,
Assistant Chief, Environmental Enforcement Section, Environment and Natural Resources Division.

[FR Doc. E9-20989 Filed 8-31-09; 8:45 am]

BILLING CODE 4410-15-P